DEPARTMENT OF THE INTERIOR

National Park Service

[NPS-WASO-NRNHL-18083; PPWOCRADI0, PCU00RP14.R50000]

National Register of Historic Places; Notification of Pending Nominations and Related Actions

Nominations for the following properties being considered for listing or related actions in the National Register were received by the National Park Service before April 4, 2015. Pursuant to section 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service,1201 Eye St. NW., 8th floor, Washington, DC 20005; or by fax, 202-371-6447. Written or faxed comments should be submitted by May 11, 2015. Before including your address, phone number, email address, or other personal identifying information in your comment, you should be aware that your entire comment—including your personal identifying information—may be made publicly available at any time. While you can ask us in your comment to withhold your personal identifying information from public review, we cannot guarantee that we will be able to do so.

Dated: April 8, 2015.
J. Paul Loether,
Chief, National Register of Historic Places/National Historic Landmarks Program.

DELAWARE

Sussex County

Hebron Methodist Protestant Church and Cemetery, 18282 Seashore Hwy., Georgetown, 15000220

FLORIDA

Alachua County

Hawthorne Cemetery, FL 20, Hawthorne, 15000221

GEORGIA

Cobb County

Johnston's River Line (Boundary Increase and Additional Documentation), (Chattahooche River Line Battlefield MPS), 6700 Discovery Blvd.,Mableton, 15000222

Union Field Fortifications at Henderson Road, (Chattahooche River Line Battlefield MPS), 6000 Henderson Rd. SE., Mableton, 15000223

ILLINOIS

Clay County

Clay County Courthouse, 300 Broadway St., Louisville, 15000224

Cook County

Peck and Hills Furniture Company Warehouse, 909 W. Bliss St., Chicago, 15000225

Tazewell County

North Eighth Street Plaza, 1500-1532 N. 8th St., Pekin, 15000226

IOWA

Montgomery County

Villisca National Guard Armory, 316 E. 3rd St., Villisca, 15000227

MISSOURI

Jasper County

Murphysburg Historic District, (Historic Resources of Joplin, Missouri), Roughly bounded by S. Sergeant, S. Pearl & S. Byers Aves., W. 1st, W. 4th & W. 7th Sts., Joplin, 15000228

NEW YORK

Bronx County

Williamsbridge Oval Park, Reservoir Oval E., & W., Bronx, 15000229

Dutchess County

Murphy Grist Mill, 138 Beekman Poughquag Rd., Beekman, 15000230

Essex County

Crown Point Green Historic District, Park Ave., Creek Rd., NY 9N/22, Crown Point, 15000231

Kings County

Union Temple of Brooklyn, 17 Eastern Pkwy., Brooklyn, 15000232

Montgomery County

Canajoharie Historic District, Roughly Church, Cliff, E. & W. Main, Mill, Moyer, Rock & Reed Sts., Erie Blvd., Canajoharie, 15000233

Nassau County

Barkin House, 84 E. Olive St., Long Beach, 15000234

Westchester County

Skinny House, 175 Grand St., Mamaroneck, 15000235

Waccabuc Historic District,

Mead St. & portions of Tarry-A-Bit Dr., Post Office & Chapel Rds., Lewisboro, 15000236

NORTH CAROLINA

Cumberland County

Smith, Dr. Ezekiel Ezra, House, 135 S. Blount St., Fayetteville, 15000237

Currituck County

Flyway Club, 221 Marsh Causeway Rd., Knotts Island, 15000238

OREGON

Josephine County

Lippincott, William J. and Sarah Wagner, House, 14601 Watergap Rd., Williams, 15000239

Linn County

Albany Hebrew Cemetery, 3165 Salem Ave., SE., Albany, 15000240

PENNSYLVANIA

Montgomery County

Stewart, Walter and Gertrude May, Farmstead, 2600 Line Lexington Rd., Hartfield Township, 15000241

Northampton County

Gosztonyi Savings and Trust, 530 E. 3rd St., Bethlehem, 15000242

RHODE ISLAND

Washington County

Dunes Club, The, 137 Boston Neck Rd., Narragansett, 15000243

TEXAS

Bell County

Killeen High School, 101 N. College St., Killeen, 15000244

Bexar County

Milam Building, 115 E. Travis St., San Antonio, 15000246

Dallas County

One Main Place, 1201 Main St., Dallas, 15000245

Tyler County

Tyler County Courthouse, 100 W. Bluff St., Woodville, 15000247

VIRGINIA

Albemarle County

Blue Ridge Swim Club, 1275 Owensville Rd., Ivy, 15000248

Harris Farm, 2950 Thomas Jefferson Pkwy., Charlottesville, 15000249

Clarke County

Josephine City Historic District, Josephine St., Berryville, 15000250

Gloucester County

Kenwood, 7437 Kenwood Ln., Gloucester, 15000251

Newport News Independent City

Temple Sinai, 11620 Warwick Blvd., Newport News (Independent City), 15000252

Norfolk Independent City

Norfolk and Western Railroad Historic District, Parts of 21st through 27th Sts., Bowden's Ferry Rd., Colley, Colonial, Debree, Llewellyn, Monticello Aves., Norfolk (Independent City), 15000253

Rockbridge County

Boxerwood, 963 Ross Rd., Lexington, 15000254

WISCONSIN

Dane County

University of Wisconsin Memorial Union, 800 Langdon St., Madison, 15000255

WYOMING

Sublette County

Craig Cabin, The, Approx. 4 mi. E. of Dell & Jack Creeks, Bondurant, 15000256

[FR Doc. 2015-09531 Filed 4-23-15; 8:45 am]

BILLING CODE 4312-51-P